DEPARTMENT OF TRANSPORTATION

Federal Highway Administration

Environmental Impact Statement: Brown County, WI

AGENCY: Federal Highway Administration (FHWA), DOT.

ACTION: Notice of intent to prepare an Environmental Impact Statement.

SUMMARY: The FHWA is issuing this notice to advise the public that an Environmental Impact Statement will be prepared for proposed highway corridor development in the southern part of the Green Bay Metropolitan Area in Brown County, Wisconsin by the Wisconsin Department of Transportation (WisDOT).

FOR FURTHER INFORMATION CONTACT: Stephanie Hickman, FHWA, Suite 8000, 525 Junction Road, Madison, WI 53717; Telephone: (608) 829-7503.

SUPPLEMENTARY INFORMATION: The Federal Highway Administration (FHWA), in cooperation with the Wisconsin Department of Transportation (WisDOT) and the Brown County Planning Commission (BCPC), will prepare an Environmental Impact Statement on proposed highway corridor development in the southern part of the Green Bay metropolitan area. The BCPC completed a transportation plan update in 2005, with an amendment in 2007 that indicates that projected traffic volumes in the southern portion of the Green Bay metropolitan area would require additional improvements to the area. The plans suggest that the most effective method of handling transportation demand would be the addition of a Fox River bridge and connecting roadway segments. Federal, state and local agencies recognize the need to complete an environmental analysis to identify the best solutions to the projected travel demand issues.

The study area for this EIS includes the Cities of Green Bay and DePere, the Villages of Allouez, Ashwaubenon, Bellevue, and Hobart, and the Towns of Lawrence, Rockland, Glenmore, and Ledgeview.

Public involvement will be solicited throughout this process including involvement from minority and low-income populations in the project study area to ensure that any construction in the area does not create disproportionately high and adverse environmental and health impacts to these communities. Public workshops and a series of public information meetings will be held during the project study. Public notice will be given as to the time and place of all workshops and public information meetings. All meetings and workshops will be held at accessible times and locations. In addition, a public hearing will be held after the Environmental Impact Statement has been prepared.

To ensure that the full range of issues related to this proposed action are addressed and all significant issues identified, comments and suggestions are invited from all interested parties. Additional information may be found on the Brown County Planning Commission Web site at: http://www.co.brown.wi.us/planning_and_land_services/planning/county_web//transportation.html. Comments and questions concerning the proposed action and the Environmental Impact Statement should be directed to the FHWA at the address provided above.

(Catalog of Federal Domestic Assistance Program Number 20.205, Highway Planning and Construction. The regulations implementing Executive Order 12372 regarding intergovernmental consultation on Federal programs and activities apply to this program.)

Authority: 23 U.S.C. 315; 49 CFR 1.48.

Issued on: March 5, 2008.
Stephanie J. Hickman,
Environmental Programs Coordinator, Federal Highway Administration, Madison, Wisconsin.

[FR Doc. E8-4775 Filed 3-10-08; 8:45 am]

BILLING CODE 4910-22-P